DEPARTMENT OF TRANSPORTATION

Federal Aviation Administration

14 CFR Part 39

[Docket No. FAA-2015-4817; Directorate Identifier 2014-NM-115-AD; Amendment 39-18465; AD 2016-07-20]

RIN 2120-AA64

Airworthiness Directives; Airbus Airplanes

AGENCY: Federal Aviation Administration (FAA), Department of Transportation (DOT).

ACTION: Final rule.

SUMMARY: We are superseding Airworthiness Directive (AD) 95-18-08 for all Airbus Model A300-600 series airplanes. AD 95-18-08 required repetitive inspections to detect cracks in the bottom skin of the wing in the area of the cut-out for the pylon rear attachment fitting, and repair if necessary. This new AD, for certain airplanes, reduces the compliance times for the inspections. This AD was prompted by a report that updated fatigue and damage tolerance analyses and a fleet survey found that certain inspection thresholds and intervals must be reduced to allow more timely findings of cracking. We are issuing this AD to detect and correct fatigue-related cracking in the bottom skin of the wing in the area of the cut-out for the pylon rear attachment fitting, which could result in reduced structural integrity of the wing.

DATES: This AD becomes effective May 16, 2016.

The Director of the Federal Register approved the incorporation by reference of a certain publication listed in this AD as of May 16, 2016.

The Director of the Federal Register approved the incorporation by reference of a certain other publication listed in this AD as of October 16, 1995 (60 FR 47677, September 14, 1995).

ADDRESSES: You may examine the AD docket on the Internet at http://www.regulations.gov/#!docketDetail;D=FAA-2015-4817; or in person at the Docket Management Facility, U.S. Department of Transportation, Docket Operations, M-30, West Building Ground Floor, Room W12-140, 1200 New Jersey Avenue SE., Washington, DC.

For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-4817.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 95-18-08, Amendment 39-9355 (60 FR 47677, September 14, 1995) (“AD 95-18-08”). AD 95-18-08 applied to all Airbus Model A300-600 series airplanes (which includes Airbus Model A300 C4-605R Variant F airplanes), Model A300 B4-622 airplanes, and Model A300 F4-622R airplanes that were added to the U.S. Type Certificate Data Sheet since issuance of AD 95-18-08. The NPRM published in the Federal Register on November 19, 2015 (80 FR 72395) (“the NPRM” or “the proposed AD”). The NPRM was prompted by a report that updated fatigue and damage tolerance analyses and a fleet survey found that certain inspection thresholds and intervals must be reduced to allow more timely findings of cracking. The NPRM proposed to continue to require repetitive inspections to detect cracks in the bottom skin of the wing in the area of the cut-out for the pylon rear attachment fitting, and repair if necessary. The NPRM also proposed, for certain airplanes, reduce the compliance times for the inspections. We are issuing this AD to detect and correct such fatigue-related cracking in the bottom skin of the wing in the area of the cut-out for the pylon rear attachment fitting, which could result in reduced structural integrity of the wing.

The European Aviation Safety Agency (EASA), which is the Technical Agent for the Member States of the European Union, has issued EASA Airworthiness Directive 2014-0119, dated May 13, 2014 (referred to after this as the Mandatory Continuing Airworthiness Information, or “the MCAI”), to correct an unsafe condition on all Airbus Model A300 B4-600, B4-600R, and F4-600R series airplanes, and Model A300 C4-605R Variant F airplanes (collectively called Model A300-600 series airplanes). The MCAI states:

Full-scale fatigue tests carried out on the A300-600 test specimen by Airbus revealed crack initiation in the bottom skin adjacent to the aft pylon attachment fitting.

This condition, if not detected and corrected, could affect the structural integrity of the aeroplane.

To address this unsafe condition, DGAC [Direction Générale de l'Aviation Civile] France issued AD 94-069-158(B) (http://ad.easa.europa.eu/blob/1994069158tb_superseded.pdf/AD_F-1994-069-158_2) [which corresponds to FAA AD 95-18-08, Amendment 39-9355 (60 FR 47677, September 14, 1995)] to require repetitive detailed visual inspections (DVI) of the wing bottom skin in the area of the cut-out for the pylon rear attachment fitting on Left Hand (LH) and Right Hand (RH) wings [to detect cracks, and repair if necessary].

Since that [DGAC] AD was issued, a fleet survey and updated Fatigue and Damage Tolerance analyses have been performed in order to substantiate the second A300-600 Extended Service Goal (ESG2) exercise. As a result, it was revealed that the inspection threshold and interval must be reduced to allow timely detection of cracks and the accomplishment of an applicable corrective action. Prompted by these findings, Airbus issued Revision 07 of Service Bulletin (SB) A300-57-6028.

For the reasons described above, this [EASA] AD retains the requirements of DGAC France AD 94-069-158(B), which is superseded, but reduces the inspection thresholds and intervals [e.g., compliance times].

You may examine the MCAI in the AD docket on the Internet at http://www.regulations.gov/#!documentDetail;D=FAA-2015-4817-0002.

Comment

The following presents the comment received on the NPRM and the FAA's response to the comment.

Statement on Fleet Activity

FedEx Express (FedEx) stated that the NPRM will affect 71 Model A300 airplanes in its fleet. FedEx stated that 42 of its Model A300-F4 airplanes have not reached the inspection threshold, and it is currently accomplishing repetitive actions on 15 of its 29 Model A300-B4 airplanes. FedEx stated that it will adjust its inspection actions to comply with the actions specified in the NPRM.

We acknowledge FedEx's comment. No change to this AD is necessary.

Conclusion

We reviewed the available data, including the comment received, and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

We reviewed Airbus Service Bulletin A300-57-6028, Revision 07, dated June 6, 2011. The service information describes procedures for inspections to detect cracks in the bottom skin of the wing in the area of the cut-out for the pylon rear attachment fitting, and repair. This service information is reasonably available because the interested parties have access to it through their normal course of business or by the means identified in the ADDRESSES section.

Costs of Compliance

We estimate that this AD affects 124 airplanes of U.S. registry.

The actions required by AD 95-18-08, and retained in this AD take about 6 work-hours per product, at an average labor rate of $85 per work-hour. Based on these figures, the estimated cost of the actions that were required by AD 95-18-08 is $510 per product.

In addition, we estimate that any necessary follow-on actions would take about 15 work-hours and require parts costing $10,000, for a cost of $11,275 per product. We have no way of determining the number of aircraft that might need these actions.

The new requirements of this AD add no additional economic burden.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-4817; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 95-18-08, Amendment 39-9355 (60 FR 47677, September 14, 1995), and adding the following new AD:

2016-07-20 Airbus: Amendment 39-18465. Docket No. FAA-2015-4817; Directorate Identifier 2014-NM-115-AD.

(a) Effective Date

This AD becomes effective May 16, 2016.

(b) Affected ADs

This AD replaces AD 95-18-08, Amendment 39-9355 (60 FR 47677, September 14, 1995) (“AD 95-18-08”).

(c) Applicability

This AD applies to the airplanes identified in paragraphs (c)(1) through (c)(4) of this AD, certificated in any category, all manufacturer serial numbers.

(1) Airbus Model A300 B4-601, B4-603, B4-620, and B4-622 airplanes.

(2) Airbus Model A300 B4-605R and B4-622R airplanes.

(3) Airbus Model A300 F4-605R and F4-622R airplanes.

(4) Airbus Model A300 C4-605R Variant F airplanes.

(d) Subject

Air Transport Association (ATA) of America Code 57, Wings.

(e) Reason

This AD was prompted by a report that updated fatigue and damage tolerance analyses and a fleet survey found that certain inspection thresholds and intervals must be reduced to allow more timely findings of cracking. We are issuing this AD to detect and correct such fatigue-related cracking in the bottom skin of the wing in the area of the cut-out for the pylon rear attachment fitting, which could result in reduced structural integrity of the wing.

(f) Compliance

Comply with this AD within the compliance times specified, unless already done.

(g) Retained Inspection and Corrective Action with Additional Repair Information

This paragraph restates the requirements of paragraph (a) of AD 95-18-08, with additional repair contact information. Prior to the accumulation of 24,000 total flight cycles since date of manufacture of the airplane, or within 750 flight cycles after October 16, 1995 (the effective date of AD 95-18-08), whichever occurs later, perform a detailed visual inspection to detect cracks in the bottom skin of the wing in the area of the cut-out for the pylon rear attachment fitting, in accordance with Airbus Service Bulletin A300-57-6028, Revision 3, dated September 13, 1994. Repeat the inspection thereafter at intervals not to exceed 9,000 flight cycles. If any crack is detected, prior to further flight, repair the wing bottom skin in accordance with a method approved by the Manager, Standardization Branch, ANM-113, FAA, Transport Airplane Directorate, or the Manager, International Branch, ANM-116, Transport Airplane Directorate, FAA; or the European Aviation Safety Agency (EASA); or Airbus's EASA Design Organization Approval (DOA). Accomplishing any inspection required by paragraph (h) of this AD terminates the inspections required by this paragraph.

(h) New Requirement of This AD: Revised Inspection Thresholds and Intervals

Within the applicable compliance times required in paragraphs (h)(1) and (h)(2) of this AD, do a detailed visual inspection of the wing bottom skin in the area of the cut-out for the pylon rear attachment fitting on left-hand and right-hand wings, in accordance with the Accomplishment Instructions of Airbus Service Bulletin A300-57-6028, Revision 07, dated June 6, 2011. Repeat the inspections thereafter at the applicable intervals required in paragraphs (h)(3) and (h)(4) of this AD. Accomplishing any inspection required by this paragraph terminates the inspections required by paragraph (g) of this AD.

(1) For “normal range operations” airplanes having an average flight time of 1.5 flight hours or more: Do the inspection at the applicable time required in paragraphs (h)(1)(i) and (h)(1)(ii) of this AD.

(i) For Model A300 F4-605R and F4-622R airplanes: Do the inspection at the later of the times specified in paragraphs (h)(1)(i)(A) and (h)(1)(i)(B) of this AD.

(A) Within 24,000 flight cycles or 51,800 flight hours after first flight of the airplane, whichever occurs first.

(B) Within 2,000 flight cycles or 4,300 flight hours after the effective date of this AD, whichever occurs first.

(ii) For Model A300 B4-600, B4-600R, and Model A300 C4-605R Variant F airplanes: Do the inspection at the later of the times specified in paragraphs (h)(1)(ii)(A) and (h)(1)(ii)(B) of this AD.

(A) Within 19,100 flight cycles or 41,200 flight hours after first flight of the airplane, whichever occurs first.

(B) Within 1,500 flight cycles or 3,200 flight hours after the effective date of this AD, whichever occurs first.

(2) For “short range operations” airplanes having an average flight time of less than 1.5 flight hours: Do the inspection at the applicable time required in paragraphs (h)(2)(i) and (h)(2)(ii) of this AD.

(i) For Model A300 F4-605R and F4-622R airplanes: Do the inspection at the later of the times specified in paragraphs (h)(2)(i)(A) and (h)(2)(i)(B) of this AD.

(A) Within 25,900 flight cycles or 38,800 flight hours after first flight of the airplane, whichever occurs first.

(B) Within 2,100 flight cycles or 3,200 flight hours after the effective date of this AD, whichever occurs first.

(ii) For Model A300 B4-600, B4-600R, and Model A300 C4-605R Variant F airplanes: Do the inspection at the later of the times specified in paragraphs (h)(2)(ii)(A) and (h)(2)(ii)(B) of this AD.

(A) Within 20,600 flight cycles or 30,900 flight hours after first flight of the airplane, whichever occurs first.

(B) Within 1,600 flight cycles or 2,400 flight hours after the effective date of this AD, whichever occurs first.

(3) For “normal range operations” airplanes having an average flight time of 1.5 flight hours or more: Repeat the inspection at the applicable time required in paragraphs (h)(3)(i) and (h)(3)(ii) of this AD.

(i) For Model A300 F4-605R and F4-622R airplanes: Repeat the inspection thereafter at intervals not to exceed 9,000 flight cycles or 19,400 flight hours, whichever occurs first.

(ii) For Model A300 B4-600, B4-600R, and Model A300 C4-605R Variant F airplanes: Repeat the inspection thereafter at intervals not to exceed 7,100 flight cycles or 15,300 flight hours, whichever occurs first.

(4) For “short range operations” airplanes having an average flight time of less than 1.5 flight hours: Repeat the inspection at the applicable time required in paragraphs (h)(4)(i) and (h)(4)(ii) of this AD.

(i) For Model A300 F4-605R and F4-622R airplanes: Repeat the inspection thereafter at intervals not to exceed 9,700 flight cycles or 14,500 flight hours, whichever occurs first.

(ii) For Model A300 B4-600, B4-600R, and Model A300 C4-605R Variant F airplanes: Repeat the inspection thereafter at intervals not to exceed 7,600 flight cycles or 11,500 flight hours, whichever occurs first.

(i) Definition of Average Flight Time for Paragraph (h) of This AD

For the purpose of paragraph (h) of this AD, the Average Flight Time must be established as follows:

(1) For the initial inspection, the average flight time is the total accumulated flight hours, counted from take-off to touch-down, divided by the total accumulated flight cycles at the effective date of this AD.

(2) For the first repeated inspection interval, the average flight time is the total accumulated flight hours divided by the total accumulated flight cycles at the time of the inspection threshold.

(3) For all inspection intervals onwards, the average flight time is the flight hours divided by the flight cycles accumulated between the last two inspections.

(j) New Requirement of This AD: Corrective Action for Any Cracking Found

If any crack is found during any inspection required by paragraph (h) of this AD: Before further flight, repair using a method approved by the Manager, International Branch, ANM-116, Transport Airplane Directorate, FAA; or EASA; or Airbus's EASA DOA. Accomplishing a repair does not constitute terminating action for the repetitive inspections required by paragraph (h) of this AD.

(k) Credit for Previous Actions

This paragraph provides credit for inspections required by paragraph (h) of this AD, if those actions were performed before the effective date of this AD using any of the service information identified in paragraphs (k)(1), (k)(2), and (k)(3) of this AD, which are not incorporated by reference in this AD.

(1) Airbus Service Bulletin A300-57-6028, Revision 04, dated October 25, 1999.

(2) Airbus Service Bulletin A300-57-6028, Revision 05, dated January 11, 2002.

(3) Airbus Service Bulletin A300-57-6028, Revision 06, dated May 17, 2006.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 95-18-08, are approved as AMOCs for the corresponding provisions of paragraph (g) of this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(m) Related Information

(1) Refer to Mandatory Continuing Airworthiness Information (MCAI) European Aviation Safety Agency Airworthiness Directive 2014-0119, dated May 13, 2014, for related information. This MCAI may be found in the AD docket on the Internet at http://www.regulations.gov by searching for and locating Docket No. FAA-2015-4817.

(2) Service information identified in this AD that is not incorporated by reference is available at the addresses specified in paragraphs (n)(5) and (n)(6) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on May 16, 2016.

(i) Airbus Service Bulletin A300-57-6028, Revision 07, dated June 6, 2011.

(ii) Reserved.

(4) The following service information was approved for IBR on October 16, 1995 (60 FR 47677, September 14, 1995).

(i) Airbus Service Bulletin A300-57-6028, Revision 3, dated September 13, 1994. Pages 1 through 6 of this service bulletin indicate Revision 3 and are dated September 13, 1994; pages 7 through 9 indicate Revision 2 and are dated February 22, 1994.

(ii) Reserved.

(5) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on March 24, 2016.
Michael Kaszycki,
Acting Manager, Transport Airplane Directorate, Aircraft Certification Service.

[FR Doc. 2016-07570 Filed 4-8-16; 8:45 am]

BILLING CODE 4910-13-P